DEPARTMENT OF TRANSPORTATION

Federal Aviation Administration

14 CFR Part 39

[Docket No. 2000-SW-48-AD]

RIN 2120-AA64

Airworthiness Directives; Bell Helicopter Textron, Inc., Model 205A-1, 205B, 212, 412, 412EP, and 412CF Helicopters

AGENCY: Federal Aviation Administration, DOT.

ACTION: Notice of proposed rulemaking (NPRM).

SUMMARY: This document proposes the adoption of a new airworthiness directive (AD) for Bell Helicopter Textron, Inc. (BHTI) Model 205A-1, 205B, 212, 412, 412EP, and 412CF helicopters. The AD would require removing each existing tail rotor counterweight bellcrank (bellcrank) retention nut (retention nut), replacing each retention nut with a zero hours time-in-service (TIS) retention nut; and follow-up inspections of installed retention nuts. This proposal is prompted by an in-flight loss of a bellcrank due to failure of the retention nut. The actions specified by the proposed AD are intended to prevent failure of the retention nut, which could result in the bellcrank migrating off the crosshead spindle, loss of tail rotor control, and subsequent loss of control of the helicopter.

DATES: Comments must be received on or before May 7, 2001.

ADDRESSES: Submit comments in triplicate to the Federal Aviation Administration (FAA), Office of the Regional Counsel, Southwest Region, Attention: Rules Docket No. 2000-SW-48-AD, 2601 Meacham Blvd., Room 663, Fort Worth, Texas 76137. You may also send comments electronically to the Rules Docket at the following address: 9-asw-adcomments@faa.gov. Comments may be inspected at the Office of the Regional Counsel between 9:00 a.m. and 3:00 p.m., Monday through Friday, except Federal holidays.

The service information referenced in the proposed rule may be obtained from Bell Helicopter Textron, Inc., P.O. Box 482, Fort Worth, Texas 76101, telephone (817) 280-3391, fax (817) 280-6466. This information may be examined at the FAA, Office of the Regional Counsel, Southwest Region, 2601 Meacham Blvd., Room 663, Fort Worth, Texas.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2000-SW-48-AD.” The postcard will be date stamped and returned to the commenter.

Availability of NPRMs

Any person may obtain a copy of this NPRM by submitting a request to the FAA, Office of the Regional Counsel, Southwest Region, Attention: Rules Docket No. 2000-SW-48-AD, 2601 Meacham Blvd., Room 663, Fort Worth, Texas 76137.

Discussion

This document proposes the adoption of a new AD for BHTI Model 205A-1, 205B, 212, 412, 412EP, and 412CF helicopters. The document proposes to require:

• Removing the two existing retention nuts within 100 hours TIS or 90 days, whichever occurs first;

• Installing a retention nut, part number MS14145L6 or MS17826-6, which are limited to a one-time installation;

• Inspecting the corrosion preventive compound (CPC) coating of the retention nut for deficiencies;

• Inspecting the retention nut for corrosion, mechanical damage, a crack, or looseness; and

• Replacing each retention nut, when necessary.

This proposal is prompted by an in-flight loss of a bellcrank due to failure of the retention nut. The actions specified by the proposed AD are intended to prevent failure of the retention nut, which could result in the bellcrank migrating off the crosshead spindle, loss of tail rotor control, and subsequent loss of control of the helicopter

The FAA has reviewed the following BHTI Alert Service Bulletins, which describe procedures for installing, inspecting, and replacing the retention nut:

• Bell Helicopter Textron, Inc. Alert Service Bulletin No. 205-00-77, Revision A, dated September 13, 2000, which is applicable to Model 205A-1 helicopters;

• Bell Helicopter Textron, Inc. Alert Service Bulletin No. 205B-00-31, Revision A, dated September 13, 2000, which is applicable to Model 205B helicopters;

• Bell Helicopter Textron, Inc. Alert Service Bulletin No. 212-00-107, Revision A, dated September 13, 2000, which is applicable to Model 212 helicopters;

• Bell Helicopter Textron, Inc. Alert Service Bulletin No. 412-00-102, Revision A, dated September 13, 2000, which is applicable to Model 412 and Model 412EP helicopters; and

• Bell Helicopter Textron, Inc. Alert Service Bulletin No. 412CF-00-10, Revision A, dated September 13, 2000, which is applicable to Model 412CF helicopters.

Since an unsafe condition has been identified that is likely to exist or develop on other BHTI Model 205A-1, 205B, 212, 412, 412EP, and 412CF helicopters of the same type design, the proposed AD would require:

• Removing the two existing retention nuts within 100 hours TIS or 90 days, whichever occurs first;

• Installing a retention nut, part number MS14145L6 or MS17826-6, which are limited to a one-time installation;

• Inspecting the CPC coating of the retention nut for deficiencies;

• Inspecting the retention nut for corrosion, mechanical damage, a crack, or looseness; and

• Replacing each retention nut, when necessary.

The actions would be required to be accomplished in accordance with the applicable alert service bulletins described previously.

The FAA estimates that 423 helicopters of U.S. registry would be affected by this proposed AD, that it would take approximately 2.5 work hours per helicopter to replace each retention nut, and 0.5 work hour to inspect each retention nut once, and that the average labor rate is $60 per work hour. Required parts would cost approximately $7 per helicopter. Based on these figures, the total cost impact of the proposed AD on U.S. operators is estimated to be $155,241 to replace the retention nuts and inspect them once.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron, Inc.: Docket No. 2000-SW-48-AD.

Applicability: Model 205A-1, 205B, 212, 412, 412EP, and 412CF helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To prevent failure of the tail rotor counterweight bellcrank (bellcrank) retention nut (retention nut), which could result in the bellcrank migrating off the crosshead spindle, loss of tail rotor control, and subsequent loss of control of the helicopter, accomplish the following:

(a) For Model 205A-1 helicopters:

(1) Within 100 hours time-in-service (TIS) or 90 days after the effective date of this AD, whichever occurs first, remove the two existing retention nuts retaining the bellcranks, part number (P/N) 212-010-709-001 or 212-011-705-001, and install zero hours TIS retention nuts, P/N MS14145L6 or MS17826-6, in accordance with paragraphs (1) through (5) of the Accomplishment Instructions in Bell Helicopter Textron, Inc. Alert Service Bulletin (ASB) 205-00-77, Revision A, September 13, 2000 (205A-1 ASB). A used nut may not be installed.

(2) At intervals not to exceed 100 hours TIS after accomplishing paragraph (a)(1) of this AD, inspect the retention nuts and corrosion preventive compound (CPC) coating in accordance with paragraph (6) of the Accomplishment Instructions of the 205A-1 ASB. Reapply the CPC coating if deficiencies are found in the coverage and protection of the area. Replace any retention nut with any corrosion, mechanical damage, a crack, or looseness with an airworthy new retention nut before further flight.

(b) For Model 205B helicopters:

(1) Within 100 hours TIS or 90 days after the effective date of this AD, whichever occurs first, remove the two existing retention nuts retaining the bellcranks, P/N 212-011-705-001, and install retention nuts, P/N MS14145L6 or MS17826-6, in accordance with paragraphs (1) through (5) of the Accomplishment Instructions in Bell Helicopter Textron, Inc. ASB 205B-00-31, Revision A, dated September 13, 2000 (205B ASB). A used nut may not be installed.

(2) At intervals not to exceed 100 hours TIS after accomplishing paragraph (b)(1) of this AD, inspect the retention nuts and CPC coating in accordance with paragraph (6) of the Accomplishment Instructions in the 205B ASB. Reapply the CPC coating if deficiencies are found in the coverage and protection of the area. Replace any retention nut with any corrosion, mechanical damage, a crack, or looseness with an airworthy new retention nut before further flight.

(c) For Model 212 helicopters:

(1) Within 100 hours TIS or 90 days after the effective date of this AD, whichever occurs first, remove the two existing retention nuts retaining the bellcranks, P/N 212-010-709-001 or 212-011-705-001, and install retention nuts, P/N MS14145L6 or MS17826-6, in accordance with paragraphs (1) through (5) of the Accomplishment Instructions in Bell Helicopter Textron, Inc. Alert Service Bulletin 212-00-107, Revision A, dated September 13, 2000 (212 ASB). A used retention nut may not be installed.

(2) At intervals not to exceed 100 hours TIS after accomplishing paragraph (c)(1) of this AD, inspect the retention nuts and CPC coating in accordance with paragraph (6) of the Accomplishment Instructions in the 212 ASB. Reapply the CPC coating if deficiencies are found in the coverage and protection of the area. Replace any retention nut with any corrosion, mechanical damage, a crack, or looseness with an airworthy new nut before further flight.

(d) For Model 412 or 412EP helicopters:

(1) Within 100 hours TIS or 90 days after the effective date of this AD, whichever occurs first, remove the two existing retention nuts retaining the bellcranks, P/N 212-011-705-001, and install retention nuts, P/N MS14145L6 or MS17826-6, in accordance with paragraphs (1) through (5) of the Accomplishment Instructions in Bell Helicopter Textron, Inc. ASB 412-00-102, Revision A, dated September 13, 2000 (412 ASB). A used nut may not be installed.

(2) At intervals not to exceed 100 hours TIS after accomplishing paragraph (d)(1) of this AD, inspect the retention nuts and CPC coating in accordance with paragraph (6) of the Accomplishment Instructions in the 412 ASB. Reapply the CPC coating if deficiencies are found in the coverage and protection of the area. Replace any retention nut with any corrosion, mechanical damage, a crack, or looseness with an airworthy new retention nut before further flight.

(e) For Model 412CF helicopters:

(1) Within 100 hours TIS or 90 days after the effective date of this AD, whichever occurs first, remove the two existing retention nuts retaining the bellcranks, P/N 212-011-705-001, and install retention nuts, P/N MS14145L6 or MS17826-6, in accordance with paragraphs (1) through (5) of the Accomplishment Instructions in Bell Helicopter Textron, Inc. ASB 412CF-00-10, Revision A, September 13, 2000 (412CF ASB). A used nut may not be installed.

(2) At intervals not to exceed 100 hours TIS after accomplishing paragraph (e)(1) of this AD, inspect the retention nuts and CPC coating in accordance with paragraph (6) of the Accomplishment Instructions in the 412CF ASB. Reapply the CPC coating if deficiencies are found in the coverage and protection of the area. Replace any retention nut with any corrosion, mechanical damage, a crack, or looseness with an airworthy new nut before further flight.

(f) An alternative method of compliance or adjustment of the compliance time that provides an acceptable level of safety may be used if approved by the Manager, Rotorcraft Certification Office, Rotorcraft Directorate, FAA. Operators shall submit their requests through an FAA Principal Maintenance Inspector, who may concur or comment and then send it to the Manager, Rotorcraft Certification Office.

Note 2: Information concerning the existence of approved alternative methods of compliance with this AD, if any, may be obtained from the Rotorcraft Certification Office.

(g) Special flight permits may be issued in accordance with sections 21.197 and 21.199 of the Federal Aviation Regulations (14 CFR 21.197 and 21.199) to operate the helicopter to a location where the requirements of this AD can be accomplished.

Issued in Fort Worth, Texas, on February 28, 2001.
Eric Bries,
Acting Manager, Rotorcraft Directorate, Aircraft Certification Service.

[FR Doc. 01-5658 Filed 3-7-01; 8:45 am]

BILLING CODE 4910-13-U